DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Generic Clearance for MAF & TIGER Updating Activities.

OMB Control Number: 0607-0809.

Form Number(s): Various.

Type of Request: Extension of an approved collection.

Burden Hours: 11,283.

Number of Respondents: 212,892.

Average Hours per Response: 3 minutes.

Needs and Uses: The Census Bureau requests approval from the Office of Management and Budget (OMB) for an extension of the generic clearance for a number of activities it plans to conduct to update its Master Address File (MAF) and maintain the linkage between the MAF and the Topologically Integrated Geographic Encoding and Referencing (TIGER) database of address ranges and associated geographic information. The Census Bureau plans to use the MAF for post-Census 2010 evaluations, various pre-2020 census tests, and as a sampling frame for the American Community Survey and our other demographic current surveys. In the past, the Census Bureau has built a new address list for each decennial census. The MAF built during Census 2000 will be updated thereafter, eliminating the need to assemble a completely new address list for future censuses and surveys. The TIGER is a geographic system that maps the entire country in Census Blocks with applicable address ranges of living quarter location information. Linking MAF and TIGER allows us to assign each address to the appropriate Census Block, produce maps as needed and publish results at the appropriate level of geographic detail.

The generic clearance for the past three years has proved to be very beneficial to the Census Bureau. The generic clearance allowed us to utilize our limited resources on actual operational planning and development of procedures. The extension will be especially beneficial over the upcoming three years by enabling us to focus on the efforts to improve procedures for future Dress Rehearsals, and to continue updating the MAF.

We will follow the protocol of past generic clearances: 30 days before the scheduled start date of each census activity, we will provide OMB with a detailed background on the activity, estimates of respondent burden and samples of pertinent forms. After the close of each fiscal year, we will also file a year-end summary report with OMB, presenting the results of each activity conducted.

The following sections describe the categories of activities to be included under the clearance. The Census Bureau has conducted these activities (or similar ones) previously and the respondent burden remains relatively unchanged from one time to another.

Demographic Area Address Listing (DAAL)

The Demographic Area Address Listing (DAAL) program encompasses the geographic area updates for the Community Address Updating System (CAUS) and the area and group quarters frame listings for many ongoing demographic surveys (the Current Population Survey, the Consumer Expenditures Survey, etc.). The CAUS program is designed to address quality concerns relating to areas with high concentrations of noncity-style addresses, and to provide a rural counterpart to the update of city-style addresses the MAF receives from the U.S. Postal Services's Delivery Sequence File. The ongoing demographic surveys, as part of the 2000 Sample Redesign Program, used the MAF as one of several sources of addresses from which they selected their samples. In fiscal year 2010, the DAAL operation will also be used to assess a job aid used in the 2010 Address Canvassing operation to identify units in small multi-unit structures. The DAAL program is a cooperative effort among many divisions at the Census Bureau; it includes automated listing software, systems, and procedures that will allow us to conduct listing operations in a dependent manner based on information contained in the MAF.

The DAAL operations will be conducted on an ongoing basis in potentially any county across the country. Field Representatives (FRs) will canvass selected Census 2000 tabulation blocks to improve the address list in areas where substantial address changes may have occurred that have not been added to the MAF through regular update operations, and/or in blocks in the area or group quarters frame sample for the demographic surveys. FRs will update existing address information, and, when necessary, contact individuals to collect accurate location and mailing address information. In general, contact will occur only when the FR is adding a unit to the address list, and/or the individual's address is not posted or visible to the FR. There is no pre-determined or scripted list of questions asked as part of this listing operation. If an address is not posted or visible to the FR, the FR will ask about the address of the structure, the mailing address, and, in some instances, the year the structure was built. If the occupants of these households are not at home, the FR may attempt to contact a neighbor to determine the best time to find the occupants at home and/or to obtain the correct address information. At group quarters, a facility manager is usually contacted to collect information concerning the facility.

DAAL is an ongoing operation. Listing assignments are distributed quarterly with the work conducted throughout the time period. We expect that DAAL listing operation will be conducted throughout the entire time period of the extension.

American Housing Survey (AHS) Screening Operation

The Census Bureau plans a screening operation to add housing units in independent living facilities to the American Housing Survey (AHS) sample. We define an independent living facility as a building with 5 or more housing units whose residents live independently and are generally self-sufficient but are able to get help with services like meals, transportation, and managing finances, as well as personal care such as bathing, eating, or dressing. The residents tend to be elderly but also include the disabled of all ages.

We plan on placing a flag on the MAF to identify the independent living units added to the AHS by this operation. AHS is the first current survey to attempt to identify independent living units. If the operation is successful, other current surveys will use the criteria developed to identify such units for inclusion in their samples and will also flag these units on the MAF. Having these units identified on the MAF increases its functionality. Independent living is one of the fastest growing types of housing. The Census Bureau needs to begin the process of identifying units in these facilities.

Depending on the sponsor's FY10 budget, there are an estimated 180 to 600 units in sample for the 2011 AHS-Metropolitan survey, we will screen from all 12 Regional Offices October 12-December 10, 2010. We would need to do this again in late 2012 for the 2013 AHS survey. The Regional Office Supervisors will telephone the facility contacts to confirm the status of the units. We will never contact the housing unit itself for this information. We expect the screening questions to take about 6 minutes once a contact person is located which equates to total respondent burden of 60 hours.

All information that identifies individuals will be held in strict confidence according to the provisions of Title 13, United States Code, Section 9. When contact is made, the Regional Office Supervisor will read the Confidentiality Notice that provides information on the confidential nature of Census Bureau data. This notice explains that any information given to the Census Bureau will be held in strict confidence. None of the questions asked during the screening are of a sensitive nature and there is no cost to facilities other than that of staff time to respond.

The list above is not exhaustive of all activities, which may be performed under this generic clearance. We will follow the approved procedure when submitting any additional activities not specifically listed here.

Affected Public: Individuals or households.

Frequency: On occasion.

Respondent's Obligation: Mandatory.

Legal Authority: The activities to be conducted under this clearance are authorized by Title 13 United States Code, Sections 141 and 193.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: January 12, 2010.
Glenna Mickelson,
Management Analyst, Office of the Chief Information Officer.

[FR Doc. 2010-741 Filed 1-15-10; 8:45 am]

BILLING CODE 3510-07-P